DEPARTMENT OF JUSTICE

Notice of Lodging of Consent Decree Under the Clean Air Act

Pursuant to 28 CFR 50.7, notice is hereby given that, on September 30, 2008, a proposed Consent Decree in United States v. Merit Energy Company, LLC and Shell Exploration & Production Co., Civil Action No. 1:08-cv-917 (W.D. Mich.) was lodged with the United States District Court for the Western District of Michigan. The Consent Decree addresses alleged violations of the Clean Air Act, 42 U.S.C. 7401-7671q, and its implementing regulations at a natural gas processing facility that is located approximately eight miles northeast of Manistee, Michigan. Shell Exploration & Production Co. (“Shell”) constructed the facility in the late 1970s and Shell owned and operated the facility until it sold it to Merit Energy Company, LLC (“Merit”) in December 2003. The facility includes a natural gas sweetening unit that is used to separate sulfur-containing compounds from natural gas extracted from nearby production wells. The facility also has two Claus sulfur recovery units that recover elemental sulfur from the concentrated sulfur-containing gases generated by the sweetening unit.

The proposed Consent Decree would resolve the claims alleged in the Complaint in exchange for the Defendants' commitment to implement appropriate injunctive relief, pay a $500,000 civil penalty, and perform a $1 million Supplemental Environmental Project. Among other things, the injunctive relief provisions of the Decree would require Merit to eliminate all routine emission of sulfur dioxide from the facility by September 1, 2009, either by shutting the facility down or by installing and operating a separately-permitted acid gas injection control system. The Decree also would impose strict limits on emissions from the facility in non-routine situations, such as during any control equipment malfunction. Shell and Merit are jointly liable for payment of the $500,000 civil penalty under the Decree. Finally, the Decree would require Merit to perform a Supplemental Environmental Project, at a cost of at least $1 million, that would involve reducing air pollutant emissions from gas-fired compressors at several other gas handing facilities near the Manistee natural gas processing facility.

The Department of Justice will receive comments relating to the Consent Decree for a period of thirty (30) days from the date of this publication. Comments should be addressed to the Assistant Attorney General, Environment and Natural Resources Division, and mailed either electronically to pubcomment-ees.enrd@usdoj.gov or in hard copy to P.O. Box 7611, U.S. Department of Justice, Washington, DC 20044-7611. Comments should refer to United States v. Merit Energy Company, LLC and Shell Exploration & Production Co., Civil Action No. 1:08-cv-917 (W.D. Mich.) and D.J. Ref. No. 90-5-2-1-09003.

The Consent Decree may be examined at: (1) The offices of the United States Attorney, 330 Ionia Avenue, NW., Suite 501, Grand Rapids, Michigan; and (2) the offices of the U.S. Environmental Protection Agency, Region 5, 77 West Jackson Boulevard, 14th Floor, Chicago, Illinois. During the public comment period, the Consent Decree may also be examined on the following Department of Justice Web site: http://www.usdoj.gov/enrd/Consent_Decrees.html. A copy of the Consent Decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please enclose a check in the amount of $14.50 (58 pages at 25 cents per page reproduction cost) payable to the U.S. Treasury.

Maureen M. Katz,
Assistant Chief, Environmental Enforcement Section, Environment and Natural Resources Division.

[FR Doc. E8-23423 Filed 10-3-08; 8:45 am]

BILLING CODE 4410-15-P